DEPARTMENT OF THE INTERIOR

Bureau of Land Management

[MT-066-09-1610-DR-024E]

Notice of Availability of the Record of Decision and Approved Resource Management Plan for the Butte Field Office, Montana

AGENCY: Bureau of Land Management, Interior.

ACTION: Notice of availability.

SUMMARY: The Bureau of Land Management (BLM) announces the availability of the Record of Decision (ROD) and Approved Resource Management Plan (RMP) for the Butte Field Office, Montana. The Montana State Director signed the ROD, which constitutes the final decision of the BLM and makes the Approved RMP effective immediately.

ADDRESSES: Copies of the ROD and Approved RMP are available upon request from the Field Manager, Butte Field Office, BLM, 106 North Parkmont, Butte, MT 59401-3388, or via the Internet at http://www.blm.gov/mt/st/en/fo/butte_field_office.html.

FOR FURTHER INFORMATION CONTACT: Tim La Marr, Project Manager, BLM, 106 North Parkmont, Butte, MT 59701; or by calling (406) 533-7645.

SUPPLEMENTARY INFORMATION: The Butte Field Office manages about 307,000 acres of public land and about 661,000 acres of Federal mineral estate in Beaverhead, Broadwater, Deerlodge, Gallatin, Jefferson, Lewis and Clark, Park, and Silver Bow Counties in western Montana. The planning process for the RMP addressed the following five major issues: (1) How will vegetation on the BLM lands be managed to achieve healthy ecosystems while providing for a broad range of multiple uses? (2) How will the BLM lands be managed to protect wildlife and fish habitat, and to conserve and recover special status and priority species? (3) How should the BLM manage motorized public travel to meet the needs of public access and resource uses while minimizing user conflicts and impacts to air, soil, watershed, vegetation, wildlife, and other resource values? (4) How should recreation be managed to accommodate the full range of recreational uses enjoyed by the public on the BLM lands? (5) Which areas, if any, should be managed as special designations, and how should such areas be managed to protect values that warrant this status?

The Approved RMP was prepared under the authorities of the Federal Land Policy and Management Act of 1976 (FLPMA) and the National Environmental Policy Act of 1969 (NEPA). The Approved RMP is nearly identical to the Proposed Plan (Alternative B) presented in the 2008 Proposed RMP/Final Environmental Impact Statement (EIS). Decisions in the ROD are either land use planning decisions that were protestable under the planning regulations (43 CFR subpart 1610), or implementation decisions that are now appealable under the regulations discussed below.

The BLM received six valid protest letters during the 30-day protest period provided for the Proposed RMP/Final EIS in accordance with 43 CFR 1610.5-2. The BLM Director addressed all the protests without making significant changes to the Proposed RMP; minor corrections and clarifications are included in the “Clarifications” section of the ROD.

Site-specific travel route decisions for the Helena Travel Planning Area (TPA), East Helena TPA, Lewis and Clark County NW TPA, Boulder/Jefferson City TPA, and Upper Big Hole River TPA are subject to a separate appeals process. These decisions are implementation decisions contained in the “Implementation Decisions Covered Under this Record of Decision” section of the ROD and are appealable under 43 CFR part 4, subpart E. Any party adversely affected by site-specific travel route decisions in these five TPAs may appeal within 30 days of publication of this Notice of Availability. The appeal should state the specific travel route(s), as identified in the ROD and Approved RMP, on which the decision is being appealed. The appeal must be filed with the Butte Field Manager at the above listed address. Please consult the cited regulations for further appeal requirements.

Authority: 43 U.S.C. 1712; 42 U.S.C. 4332.

Gene R. Terland,
State Director.

[FR Doc. E9-11897 Filed 5-21-09; 8:45 am]

BILLING CODE 4310-$$-P